DEPARTMENT OF COMMERCE

United States Patent and Trademark Office

Electronic Form for Responding to Office Actions

ACTION: New information collection; comment request.

SUMMARY: The United States Patent and Trademark Office (USPTO), as part of its continuing effort to reduce paperwork and respondent burden, invites the general public and other Federal agencies to take this opportunity to comment on the new proposed information collection, as required by the Paperwork Reduction Act of 1995, Public Law 104-13 (44 U.S.C. 3506(c)(2)(A)).

DATES: Written comments must be submitted on or before December 26, 2000.

ADDRESSES: Direct all written comments to Susan K. Brown, Records Officer, Data Administration Division, Office of Data Management, United States Patent and Trademark Office, Crystal Park 3, 3rd Floor, Suite 310, Washington, D.C. 20231, or by phone at (703) 308-7400 or via the Internet at susan.brown@uspto.gov.

FOR FURTHER INFORMATION CONTACT: Requests for additional information should be directed to Craig Morris, by mail, United States Patent and Trademark Office, 2900 Crystal Drive, Room 10B10, Arlington, Va. 22202, by phone at (703) 308-8900, or by e-mail at craig.morris@uspto.gov.

SUPPLEMENTARY INFORMATION:

I. Abstract

Pursuant to 15 U.S.C. 1051 et seq. and Chapter 37 of the Code of Federal Regulations, the United States Patent and Trademark Office (USPTO) issues Office Actions in which it requests that applicants for trademark registration furnish information that is required for the issuance of a registration but that was not provided with the initial submission of the application for registration. The information solicited in these Office Actions may include the following: the precise nature of the goods and or services associated with the mark; the dates on which the mark was first used and first used in commerce regulable by the United States Congress; the name of a domestic representative of a foreign applicant upon whom process can be served in matters pertaining to the mark; the legal entity type of the applicant; the state of incorporation of a corporate applicant; the state of organization of an applicant that is a partnership; the citizenship of an applicant who is an individual person; the names and citizenships of the partners of an applicant that is a partnership; the complete address of the applicant; the date that the application was signed; information as to whether or not a mark is the name or likeness of an individual; requests for production of specimens showing use of the mark in commerce; requests for substitute depictions of the mark; information as to whether or not the mark has a meaning in a foreign language or in a particular field or industry; information as to whether or not the applicant owns certain existing registrations; the statutory basis upon which registration of the mark is sought; and for collective membership marks, information as to how the applicant controls use of the mark by members of the organization.

To aid in the collection of this information and as part of the USPTO's electronic initiatives, the USPTO has developed an electronic form for providing this information. Additionally, the form may be used to present legal arguments as to why the USPTO should withdraw a statutory refusal to register a mark.

II. Method of Collection

By electronic transmission.

III. Data

OMB Number: 0651-00XX.

Form Number(s): PTO Form XX.

Type of Review: New information collection.

Affected Public: Individuals or households; businesses or other non-profit; not-for-profit institutions; farms; the Federal Government; and state, local or tribal government.

Estimated Number of Respondents: 22,000 responses per year.

Estimated Time Per Response: The USPTO estimates that the public will require 10 minutes (.17 hours) to supply the information requested in the Office Action. Completion times may vary, depending upon the nature and amount of information requested in a particular Office Action.

Estimated Total Annual Respondent Burden Hours: 3,740 hours per year.

Estimated Total Annual Respondent Cost Burden: $900 (this represents the estimated combined average cost of a scanner and a digital camera, one of which is needed to submit a digitized image of a stylized drawing or substitute specimens. However, it is noted that the USPTO expects that very few of the responses will require the use of either a camera or a scanner). Using the professional hourly rate of $175.00 per hour for associate attorneys in private firms, the USPTO estimates $654,500.00 per year for salary costs associated with respondents. However, it is noted that a respondent is not required to retain an attorney to assist in responding to an Office Action.

Item | Estimated time for response | Estimated annual burden hours | Estimated annual responses
Electronic Trademark Response to Action Form | 10 minutes | 3,740 | 22,000
TOTAL |  | 3,740 | 22,000

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: October 17, 2000.
Susan K. Brown,
Records Officer, Data Administration Division, Office of Data Management.

[FR Doc. 00-27212 Filed 10-23-00; 8:45 am]

BILLING CODE 3510-16-P